DEPARTMENT OF AGRICULTURE

Forest Service

Notice of New Fee Sites on the Shasta-Trinity National Forest

AGENCY: Forest Service, USDA.

ACTION: Notice of new fee site—Harris Springs Guard Station.

SUMMARY: The Shasta-Trinity National Forest will begin charging a $35 fee for the overnight rental of the Harris Springs Guard Station. Rentals of other cabins and lookouts on the Shasta-Trinity National Forest have shown that visitors appreciate and enjoy the availability of historic rental facilities. Funds from the rental will be used for the continued operation and maintenance of the Harris Springs Guard Station.

DATES: The Harris Springs Guard Station will become available for rent August 7, 2006.

FOR FURTHER INFORMATION CONTACT: Brenda Tracy, Assistant Forest Public Staff Officer, USDA Forest Service, Shasta-Trinity National Forest, 3644 Avtech Parkway, Redding, CA 96002.

SUPPLEMENTARY INFORMATION: The Federal Recreation Lands Enhancement Act (Title VII, Pub. L. 108-447) directs the Secretary of Agriculture to publish a six month advance notice in the Federal Register whenever new recreation fee areas are established. The intent of this notice is to inform publics of a new fee site.

The Shasta-Trinity National Forest currently has three other cabin/lookout rentals. These rentals are popular and often fully booked throughout their rental season. A business analysis of the Harris Springs Guard Station has shown that people desire having this sort of recreation experience on the Shasta-Trinity National Forest. A market analysis indicates that the $35/per night fee is both reasonable and acceptable for this sort of unique recreation experience.

People wanting to rent the Harris Springs Guard Station will need to do so through the National Recreation Reservation Service, at http://www.reserveusa.com or by calling 1-877-444-6777. The National Recreation Reservation Service charges a $9 fee for reservations.

Dated: February 3, 2006.
Valerie Guardia,
Deputy Director, Recreation, Wilderness and Heritage Resources.

[FR Doc. 06-2024 Filed 3-2-06; 8:45 am]

BILLING CODE 3410-11-M